TENNESSEE VALLEY AUTHORITY

[Meeting No. 06-04]

Notice of Sunshine Act Meetings

Time and Date: 10 a.m., July 28, 2006. TVA West Tower Auditorium, 400 West Summit Hill Drive, Knoxville, Tennessee.

Status: Open.

Agenda

Old Business

Approval of minutes of June 28, 2006, Board Meeting.

New Business

1. Report of the Finance, Strategy, and Rates Committee

A. FY 2007 Budget proposal.

B. Proposed Rate Adjustment, including fuel cost adjustment (FCA).

C. Proposed notice of termination and other actions regarding Variable Price Interruptible Power.

2. Report of the Audit and Ethics Committee.

A. Selection of PwC as external auditor.

3. Report of the Operations, Environment, and Safety Committee.

A. Contract—two term coal contracts for Kingston Fossil Plant with Trinity Coal Marketing LLC, and with Alpha Coal Sales Company LLC.

B. Contract—one term coal contract extension for Allen Fossil Plant with COALSALES LLC as agent for Powder River Coal Company.

C. Contract—uranium enrichment services for Sequoyah Unit 1 and Watts Bar Unit 1 with Louisiana Energy Services, L.P.

D. Contract supplement—for nuclear fuel fabrication and related engineering services for Sequoyah Nuclear Plant with Areva NP, Inc.

E. Contract supplement—for nuclear security services at all TVA nuclear sites with Pinkerton Government Services.

F. Contract—purchase of uranium hexafluoride (UF6) for use in nuclear fuel from Areva NC, Inc.

4. Report of the Community Relations Committee.

5. President's Report.

6. Information items approved by the Board previously.

A. Long-Term Power Supply—Approved price quote under arrangements with a directly served customer (Unnamed due to confidentiality provision with customer).

B. Approved adjusted blended energy prices under the Time-of-Use Blended Pricing Program arrangements with Arnold Engineering Development Center.

C. Approved extension and revision of existing interim delegations on personnel and compensation actions.

FOR MORE INFORMATION: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: July 21, 2006.
Maureen H. Dunn,
General Counsel and Secretary.

[FR Doc. 06-6503 Filed 7-24-06; 10:30 am]

BILLING CODE 8120-08-P